ENVIRONMENTAL PROTECTION AGENCY

40 CFR Part 52

[EPA-R06-OAR-2016-0206; FRL-9958-84-Region 6]

Approval and Promulgation of Implementation Plans; Louisiana; Revisions to the New Source Review State Implementation Plan; Air Permit Procedure Revisions

AGENCY: Environmental Protection Agency (EPA).

ACTION: Final rule.

SUMMARY: Pursuant to the Federal Clean Air Act (CAA or the Act), the Environmental Protection Agency (EPA) is approving severable portions of three revisions to the Louisiana New Source Review (NSR) State Implementation Plan (SIP) submitted by the Louisiana Department of Environmental Quality (LDEQ). Specifically, we are finalizing approval of provisions contained within the Chapter 5 air construction permit rules as initially submitted on November 15, 1993, November 10, 1994, and November 9, 2007. We are withdrawing our proposed disapproval of LAC 33:III.501.B.1.d, LAC 33:III.513.A.1, and LAC 33:III.531.A.1. because the LDEQ withdrew these sections from our consideration on April 19, 2017.

DATES: This rule is effective on June 30, 2017.

ADDRESSES: The EPA has established a docket for this action under Docket ID No. EPA-R06-OAR-2016-0206. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hardcopy at the EPA Region 6, 1445 Ross Avenue, Suite 700, Dallas, Texas 75202-2733.

FOR FURTHER INFORMATION CONTACT: Stephanie Kordzi, (214) 665-7520, kordzi.stephanie@epa.gov.

SUPPLEMENTARY INFORMATION: Throughout this document whenever “we,” “us,” or “our” is used, we mean the EPA.

I. Background

The background for this action is discussed in detail in our November 22, 2016, proposal (81 FR 83771). In that document, we proposed to partially approve and partially disapprove severable portions of four revisions to the Louisiana New Source Review (NSR) State Implementation Plan (SIP) submitted by the Louisiana Department of Environmental Quality (LDEQ). We are finalizing our proposed action to a full approval of severable portions of three revisions as listed in Section II below to the Louisiana NSR SIP submitted by LDEQ. We are withdrawing our proposed disapproval of LAC 33:III.501.B.1.d, LAC 33:III.513.A.1, and LAC 33:III.531.A.1. because the LDEQ withdrew these sections from our consideration by letter dated April 19, 2017.

No comments were received from LDEQ or the public on the proposal during the public notice and comment period.

II. Final Action

The EPA is approving the revisions to the Louisiana SIP that were proposed for approval in our November 22, 2016, proposal (81 FR 83771) as discussed below. This final action includes SIP submittals from the State of Louisiana submitted on November 15, 1993, November 10, 1994, and November 9, 2007.

The approved revisions provide in general: (1) Rule clarification; (2) rule consistency with Federal rules; (3) establishment of permit modification procedures; (4) establishment of reopening procedures: and (5) establishment of notification procedures for the notification of other states of Louisiana PSD permit actions. Specifically, we are approving revisions to the Louisiana SIP pertaining to the following sections:

• LAC 33:III.525 as submitted on November 15, 1993.

• LAC 33:III.527 as submitted on November 15, 1993, and November 10, 1994.

• LAC 33:III.529 as submitted on November 15, 1993.

• LAC 33:III.531 as submitted on November 15, 1993, and November 9, 2007.

• The EPA is withdrawing our proposed disapproval of LAC 33:III.501.B.1.d, LAC 33:III513.A.1, and LAC 33:III531.A.1. The LDEQ withdrew these sections from our consideration by letter dated April 19, 2017; as such, they are no longer in front of us for action.

We are taking this final action under section 110 and parts C and D of the Act.

III. Incorporation by Reference

In this rule, we are finalizing regulatory text that includes incorporation by reference. In accordance with the requirements of 1 CFR 51.5, we are finalizing to incorporate by reference revisions to the Louisiana regulations as described in the Final Action section above. We have made, and will continue to make, these documents generally available electronically through www.regulations.gov and/or in hard copy at the EPA Region 6 office.

IV. Statutory and Executive Order Reviews

Under the CAA, the Administrator is required to approve a SIP submission that complies with the provisions of the Act and applicable Federal regulations. 42 U.S.C. 7410(k); 40 CFR 52.02(a). Thus, in reviewing SIP submissions, the EPA's role is to act on state law as meeting Federal requirements and does not impose additional requirements beyond those imposed by state law.

A. Executive Order 12866: Regulatory Planning and Review and Executive Order 13563: Improving Regulation and Regulatory Review

This final action is not a significant regulatory action and was therefore not submitted to the Office of Management and Budget for review.

B. Paperwork Reduction Act (PRA)

This final action does not impose an information collection burden under the PRA because the portion of the rules that are final for approval do not contain any information collection activities.

C. Regulatory Flexibility Act (RFA)

I certify that this action will not have a significant economic impact on a substantial number of small entities under the RFA. The approved portion of this action will not impose any requirements on small entities. This action approves regulatory citations that incorporate notification requirements to government entities consistent with federal law, significant and minor permit modification criteria, and permit reopening criteria.

D. Unfunded Mandates Reform Act (UMRA)

This action does not contain any unfunded mandate as described in UMRA, 2 U.S.C. 1531-1538, and does not significantly or uniquely affect small governments. The action imposes no enforceable duty on any state, local or tribal governments or the private sector. This action approves specific citations that incorporate notification requirements to government entities consistent with federal law, significant and minor permit modification criteria, and permit reopening criteria. It therefore will have no impact on small governments.

E. Executive Order 13132, Federalism

This action does not have federalism implications. It will not have substantial direct effects on the states, on the relationship between the national government and the states, or on the distribution of power and responsibilities among the various levels of government.

F. Executive Order 13175, Coordination With Indian Tribal Governments

This action does not have tribal implications as specified in Executive Order 13175. This action approves specific citations that incorporate notification requirements to government entities consistent with federal law, significant and minor permit modification criteria, and permit reopening criteria. There are no requirements or responsibilities added or removed from Indian Tribal Governments. Thus, Executive Order 13175 does not apply to this action.

G. Executive Order 13045, Protection of Children From Environmental Health Risks and Safety Risks

EPA interprets Executive Order 13045 as applying only to those regulatory actions that concern environmental health or safety risks that the EPA has reason to believe may disproportionately affect children, per the definition of “covered regulatory action” in section 2-202 of the Executive Order. This action is not subject to Executive Order 13045 because it approves specific citations that incorporate notification requirements to government entities consistent with federal law, significant and minor permit modification criteria, and permit reopening criteria.

H. Executive Order 13211, Actions That Significantly Affect Energy Supply, Distribution or Use

This action is not subject to Executive Order 13211 because it is not a significant regulatory action under Executive Order 12866.

I. National Technology Transfer and Advancement Act

This rulemaking does not involve technical standards.

J. Executive Order 12898: Federal Actions To Address Environmental Justice in Minority Populations and Low-Income Populations

EPA believes the human health or environmental risk addressed by this action will not have potential disproportionately high and adverse human health or environmental effects on minority, low-income or indigenous populations. This action is not subject to Executive Order 12898 because it approves specific citations that incorporate notification requirements to government entities consistent with federal law, significant and minor permit modification criteria, and permit reopening criteria.

K. Congressional Review Act (CRA)

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

L. Judicial Review

Under section 307(b)(1) of the CAA, petitions for judicial review of this action must be filed in the United States Court of Appeals for the appropriate circuit by July 31, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 27, 2017.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart T—Louisiana

2. In § 52.970(c), the table titled “EPA Approved Louisiana Regulations in the Louisiana SIP” is amended by adding entries in numerical order for Sections 525, 527, 529, and 531 to read as follows:

§ 52.970 Identification of plan

* * * * *

(c) * * *

EPA Approved Louisiana Regulations in the Louisiana SIP
State citation | Title/subject | State approval date | EPA approval date | Comments
* * * * * * *
Section 525 | Minor Modifications | 11/20/1993 | 5/31/2017, [Insert Federal Register citation] | The SIP does not include LAC 33:III.525.A.2., B.2.c, B.3., B.4, B.5.a.-d., B.6., B.7., and B.8.
Section 527 | Significant Modifications | 11/20/1994 | 5/31/2017, [Insert Federal Register citation] | The SIP does not include LAC 33:III. 527.B.5.
Section 529 | Reopenings for Cause | 11/20/1993 | 5/31/2017, [Insert Federal Register citation] | The SIP does not include LAC 33:III.529.B., B.1., B.2., B.3., and B.4.
Section 531 | Public Notice and Affected State Notice | 10/20/2006 | 5/31/2017, [Insert Federal Register citation] | The SIP does not include LAC 33:III.531.A.1., A.2., A.3., A.4., B.1.a., B.1.b., and B.1.c.
* * * * * * *

* * * * *

[FR Doc. 2017-10955 Filed 5-30-17; 8:45 am]

BILLING CODE 6560-50-P